DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency (FEMA) has submitted the following information collection to the Office of Management and Budget (OMB) for review and clearance in accordance with the requirements of the Paperwork Reduction Act of 1995 (44 U.S.C. Chapter 35). The submission describes the nature of the information collection, the categories of respondents, the estimated burden (i.e., the time, effort and resources used by respondents to respond) and cost, and includes the actual data collection instruments FEMA will use.

Title: Post Construction Elevation Certificate/Floodproofing Certificate.

OMB Number: 1660-0008.

Abstract: The Elevation Certificate and Floodproofing Certificate are used in conjunction with the application for flood insurance. The certificates are required for proper rating of post Flood Insurance Rate Map (FIRM) structures, which are buildings constructed after the publication of the FIRM, for flood insurance in Special Flood Hazard Areas. In addition, the Elevation Certificate is needed for pre-FIRM structures being rated under post-FIRM flood insurance rules. The certificates provide community officials and others standardized documents to readily record needed building elevation information.

The certificates are supplied to insurance agents, community officials, surveyors, engineers, architects, and NFIP policyholders/applicants. Surveyors, engineers, and architects complete the Elevation Certificate. Engineers and architects complete the Floodproofing Certificate. Community officials are provided the building elevation information required to document and determine compliance with the community's floodplain management ordinance. NFIP policyholders/applicants provide the appropriate certificate to insurance agents. The certificate is then used in conjunction with the flood insurance application so that the building can be properly rated for flood insurance.

Affected Public: Individuals or Households, Business or Other for Profit, Not-For-Profit Institutions, Farms, and State, local or tribal government.

Number of Respondents: 48,430.

Estimated Time per Respondent:

Annual Burden Hours
Project/activity (survey, form(s), focus group, etc.) | No. of respondents | Frequency of responses | Burden hours per respondent (hours) | Annual responses | Total annual burden hours
| (A) | (B) | (C) | (AxB) | (AxBxC)
Elevation Certificate, FEMA Form 81-31 and Instructions | 48,300 | One per structure | 3.5 | 48,300 | 169,050
Floodproofing Certificate, FEMA Form 81-65 | 130 | One per structure | 3.25 | 130 | 423
Web-based Training Module (Surveyors Video, Surveyors Guide for EC, and Bldg. Diagrams and Photo) | 48,300 | One per structure | 0.25 | 48,300 | 12,075
Total | 48,430 |  |  | 48,430 | 181,548

Estimated Total Annual Burden Hours: 181,548 hours.

Frequency of Response: One per Structure.

Comments

Interested persons are invited to submit written comments on the proposed information collection to the Office of Information and Regulatory Affairs at OMB, Attention: Desk Officer for the Department of Homeland Security/FEMA, Docket Library, Room 10102, 725 17th Street, NW., Washington, DC 20503, or facsimile number (202) 395-7285. Comments must be submitted on or before November 18, 2005.

FOR FURTHER INFORMATION CONTACT: Requests for additional information or copies of the information collection should be made to Chief, Records Management, FEMA at 500 C Street, SW., Room 316, Washington, DC 20472, facsimile number (202) 646-3347, or e-mail address FEMA-Information-Collections@dhs.gov.

Dated: October 20, 2005.
George S. Trotter,
Acting Branch Chief, Information Resources Management Branch, Information Technology Services Division.

[FR Doc. 05-21509 Filed 10-27-05; 8:45 am]

BILLING CODE 9110-11-P